DEPARTMENT OF THE INTERIOR

Bureau of Land Management

[OR-015-06-5870-EU: GP-6-0020]

Non-Competitive Sale of Public Lands, OR 62305

AGENCY: Bureau of Land Management, Interior.

ACTION: Notice of realty action.

SUMMARY: A 40.24 acre parcel in Lake County, Oregon is being considered for direct (non-competitive) sale to Mr. Alan Withers. Mr. Withers, the adjoining landowner, has used the subject parcel for hay storage and livestock feedlot purposes, authorized under a range improvement permit, since 1989. No significant resource values will be affected by this disposal. The parcel proposed for sale is identified as suitable for disposal in the Lakeview Resource Management Plan and Record of Decision, dated November 2003.

DATES: All comments must be received in writing by the BLM on or before April 28, 2006.

ADDRESSES: Address all written comments concerning this notice Thomas E. Rasmussen, BLM, Lakeview Resource Area Manager, 1301 South G Street, Lakeview, Oregon 97630. Electronic format submittals will not be accepted.

FOR FURTHER INFORMATION CONTACT: Dan Stewardson, Realty Specialist, at the above address or phone (541) 947-6115.

SUPPLEMENTARY INFORMATION: The following described public land is suitable for sale under section 203 of the Federal Land Policy and Management Act of 1976, (90 Stat. 2750, 43 U.S.C. 1713).

Willamette Meridian, Oregon

T. 33S., R. 18E., section 7, lot 1.

The area described contains 40.24 acres, more or less. This parcel will be sold at no less than the appraised market value, which has been determined to be $4,000.00.

In accordance with 43 CFR 2711.3-3(a)(3) & (4), direct sale procedures may be utilized when there is a need to recognize an authorized use such as an existing business which could suffer a substantial economic loss if the parcel were purchased by other than the authorized user. The offered public land is an integral part of Mr. Withers livestock operation and due to its location impractical for another party to own.

Mr. Withers will be allowed 30 days from receipt of a written offer to submit a deposit of at least 20 percent of the appraised value of the parcel, and within 180 days thereafter submit the balance. If the balance of the purchase price is not received within the 180 days, the deposit shall be forfeited to the United States and the parcel withdrawn from sale.

The following rights, reservations and conditions will be included in the conveyance document to the land:

(1) The sale involves the surface estate of the parcel only.

(2) A reservation to the United States for a right-of-way for ditches and canals constructed by the authority of the United States, Act of August 30, 1890 (43 U.S.C. 945).

(3) The sale parcel will be subject to all valid existing rights of record at the time of conveyance.

(4) A notice and indemnification statement under the Comprehensive Environmental Response, Compensation and Liability Act (42 U.S.C. 9620) holding the United States harmless from any release of hazardous materials that may have occurred as a result of any authorized or unauthorized use of the property by other parties.

The lands described herein are hereby segregated from appropriation under the public land laws, including the mining laws, pending disposition of this action or 270 days from the date of publication of this notice, whichever occurs first.

Public Comments

Detailed information concerning the sale, including the reservations, sale procedures and conditions, appraisal, planning and environmental documentation, is available for review at the Lakeview Resource Area Office, 1301 South G Street, Lakeview, Oregon 97630.

In the absence of any objections, this realty action will become the final determination of the Department of the Interior.

Comments, including names, street addresses and other contact information of respondents, will be available for public review. Individual respondents may request confidentiality. If you wish to request that BLM consider withholding your name, street address and other contact information (such as: FAX or phone number) from public review or from disclosure under the Freedom of Information Act, you must state this prominently at the beginning of your comment. BLM will honor requests for confidentiality on a case-by-case basis to the extent allowed by law. BLM will make available for public inspection in their entirety all submissions from organizations or businesses and from individuals identifying themselves as representatives or officials of organizations or businesses.

Authority: 43 CFR 2711.1-2(a).

Thomas E. Rasmussen,
Manager, Lakeview Resource Area.

[FR Doc. E6-3582 Filed 3-13-06; 8:45 am]

BILLING CODE 4310-33-P